DEPARTMENT OF HOUSING AND URBAN DEVELOPMENT

[Docket No. FR-5907-N-22]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses AGRICULTURE: Ms. Debra Kerr, Department of Agriculture, Reporters Building, 300 7th Street SW., Room 300, Washington, DC 20024, (202) 720-8873; AIR FORCE: Mr. Robert E. Moriarty, P.E., AFCEC/CI, 2261 Hughes Avenue, Ste. 155, JBSA Lackland TX 78236-9853; COAST GUARD: Commandant, United States Coast Guard, Attn: Jennifer Stomber, 2703 Martin Luther King Jr. Avenue SE., Stop 7741, Washington, DC 20593-7714; (202) 475-5609; COE: Mr. Scott Whiteford, Army Corps of Engineers, Real Estate, CEMP-CR, 441 G Street NW., Washington, DC 20314; (202) 761-5542; GSA: Mr. Flavio Peres, General Services Administration, Office of Real Property Utilization and Disposal, 1800 F Street NW., Room 7040 Washington, DC 20405, (202) 501-0084; NASA: Mr. Frank T. Bellinger, Facilities Engineering Division, National Aeronautics & Space Administration, Code JX, Washington, DC 20546, (202) 358-1124; NAVY: Mr. Steve Matteo, Department of the Navy, Asset Management Division, Naval Facilities Engineering Command, Washington Navy Yard, 1330 Patterson Ave. SW., Suite 1000, Washington, DC 20374; (202) 685-9426; (These are not toll-free numbers).

Dated: May 19, 2016.
Brian P. Fitzmaurice,
Director, Division of Community Assistance, Office of Special Needs Assistance Programs.

TITLE V, FEDERAL SURPLUS PROPERTY PROGRAM FEDERAL REGISTER REPORT FOR 05/27/2016

Suitable/Available Properties

Building

Alabama

Former National Guard Support Facility

Intersection of 23rd & Industrial Dr.

Cullman AL 33055

Landholding Agency: GSA

Property Number: 54201620013

Status: Excess

GSA Number: 4-D-AL-0818-AA

Directions: Disposal Agency: GSA; Landholding Agency: COE

Comments: 19,850 sq. ft.; storage/warehouse; 80% occupied; several roof leaks resulting in floor damage; contact GSA for more information.

California

29 Mile Administrative Site

13275 Highway 50

Kyburz CA 95720

Landholding Agency: Agriculture

Property Number: 15201620027

Status: Unutilized

Directions: 0503 1124 29 Mile Guard Station

Comments: off-site removal only; no future agency need; 101+ yrs. old; 1,091 sq. ft.; residential; vacant 132+ mos.; poor condition; no future agency need; contact Agriculture for more information.

Goat Mtn. Radio Vault

65 Miles SW of Willows CA

Colusa CA 95979

Landholding Agency: Agriculture

Property Number: 15201620028

Status: Unutilized

Directions: Bldg. ID#: 3335 & CN#:2154.003931

Comments: off-site removal; no future agency need; 41+ yrs. old; 84 sq. ft.; storage; vacant 180+ mos.; remote location accessible only by 4 wheel drive; contact Agriculture for more information.

29 Mile Administrative Site

13275 Hwy. 50

Kyburz CA 95720

Landholding Agency: Agriculture

Property Number: 15201620029

Status: Unutilized

Directions: 0503 1527 29 Mile Garage

Comments: off-site removal only; 75+ yrs. old; 330 sq. ft.; storage; 132 mos. vacant; poor conditions; no future agency need; contact Agriculture for more information.

Camp Richardson Resort

1900 Jameson Beach Rd.

(Off of Hwy. 89)

South Lake Tahoe CA 96150

Landholding Agency: Agriculture

Property Number: 15201620031

Status: Excess

Directions: 0519 C1664 CRR Campground Bathroom

Comments: off-site removal only; 62+ yrs. old; bathroom; vacant 24+ mos.; poor condition; contact Agriculture for more information.

Hawthorne Federal Building

15000 Aviation Blvd.,

Hawthorne CA 90250

Landholding Agency: GSA

Property Number: 54201620009

Status: Surplus

GSA Number: 9-G-CA-1695-AB

Directions: Built in 1971; listed on the National Register of Historic Places due to architecture significance; 168,874 sq. ft.; office; serious deficiencies—urgent seismic upgrades, outdated building systems, and environmental concerns

Comments: contact GSA for more information.

Georgia

Greenhouses, Qty 4 660605B009;

B010; B011; B012

21 Dunbar Road

Bryon GA 31008

Landholding Agency: Agriculture

Property Number: 15201620026

Status: Excess

Directions: RPUID: 03.55222; 03.55228; 03.55229; 03.55230

Comments: off-site removal only; 49+ yrs. old; 3 @168 sq. ft. & 264 sq. ft.; greenhouse; contact Agriculture for more information.

Illinois

4 Buildings

202-220 S. State Street

Chicago IL 60604

Landholding Agency: GSA

Property Number: 54201620016

Status: Excess

GSA Number: 1-G-IL-0812-AA

Directions: Building 202 (68,200 sq. ft.); 208 (11,499 sq. ft.); 214 (7,200 sq. ft.); 220 (198,400 sq. ft.)

Comments: 96+ -128+ yrs. old; poor to very poor conditions; major repairs needed; sq. ft. above; office & commercial; 18+-24+ mos. vacant; Contact GSA for more information.

Iowa

Creston Memorial U.S.

Army Reserve Center

705 East Taylor Street

Creston IA 50801

Landholding Agency: GSA

Property Number: 54201620015

Status: Surplus

GSA Number: 7-D-IA-0520-AA

Directions: RPUID: 629976; Disposal Agency: GSA; Landholding Agency: Corp of Engineers

Comments: 57+ yrs. old; 6,500 sq. ft.; training facility; 29+ mos. vacant; sits on 2.22 acres of land; contact GSA for more information.

Nevada

Alan Bible Federal Bldg.

600 S. Las Vegas Blvd.

Las Vegas NV 89101

Landholding Agency: GSA

Property Number: 54201210009

Status: Surplus

GSA Number: 9-G-NV-565

Directions: building does not meet GSA's life/safety performance objective

Comments: 81, 247 sq. ft. suited on 0.55 acres; extensive structural issues; major repairs needed; Federal Office Bldg.; 25-30% occupied until Dec. 2016; contact GSA for more info.

Boulder City Airport

Hangar TW 4-1

1201 Airport Rd.,

Boulder City NV 89005

Landholding Agency: GSA

Property Number: 54201620014

Status: Surplus

GSA Number: 9-I-NV-0575-AA

Directions: Disposal Agency GSA; Landholding Agency: Interior

Comments: off-site removal only; 27+ yrs. old; 1,600 sq. ft.; storage; 16+ mos. vacant; fair condition; no future agency need; contact GSA for more information.

Washington

Former Eaker AFB Recreational

301 Yakima Street

Wenatchee WA 98001

Landholding Agency: GSA

Property Number: 54201620012

Status: Excess

GSA Number: 7-GR-AR-0582

Comments: 45+ yrs. old; 36,000 sq. ft.; recreational; bldg. is in disrepair; property accessed by appointment only; contact GSA for more information.

Unsuitable Properties

Building

Alaska

Hanger Nose Dock 5

2685 Flightline Ave.

Eielson Air Force Base AK 99702

Landholding Agency: Air Force

Property Number: 18201620023

Status: Unutilized

Comments: public access denied and no alternative method to gain access without compromising national security; property located within an airport runway clear zone or military airfield.

Reasons: Secured Area; Within airport runway clear zone

Arkansas

Restroom/Shower House

706 De Queen Lake Road

Off US Hwy 71 North

De Queen AR 71832

Landholding Agency: COE

Property Number: 31201620003

Status: Unutilized

Directions: Property ID 24050

Comments: property located within floodway, which has not been correct or contained.

Reasons: Floodway

Toilet Vault Type III

US 65 in Town of Grady

AR N on Arkansas Hwy

Grady AR 71644

Landholding Agency: COE

Property Number: 31201620004

Status: Unutilized

Directions: Mkarns Project, Huff's Island Park

Comments: Property located within floodway, which has not been correct or contained.

Reasons: Floodway

Florida

1191 Compressor Room

K6-1996T Contractor Road

Kennedy Space Center FL 32899

Landholding Agency: NASA

Property Number: 71201620012

Status: Unutilized

Comments: public access denied and no alternative method to gain access without compromising national security.

Reasons: Secured Area

278 Drum Storage Building

66266 Scrub Jay Road

Cape Canaveral

Air Force Station FL

Landholding Agency: NASA

Property Number: 71201620014

Status: Unutilized

Comments: public access denied and no alternative method to gain access without compromising national security.

Reasons: Secured Area

Starbase Atlantis Bldg. 1907

San Carlos Road

Pensacola FL 32508

Landholding Agency: Navy

Property Number: 77201620017

Status: Unutilized

Comments: public access denied and no alternative method to gain access without compromising national security.

Reasons: Secured Area

Mississippi

Building 115

141 Military Drive

Flowood MS 39232

Landholding Agency: Air Force

Property Number: 18201620024

Status: Underutilized

Comments: public access denied and no alternative method to gain access without compromising national security.

Reasons: Secured Area

Ohio

Green Lab Research Facility #

21000 Brookpark Road

Brook Park OH 44135

Landholding Agency: NASA

Property Number: 71201620013

Status: Unutilized

Comments: public access denied and no alternative method to gain access without compromising national security.

Reasons: Secured Area

Washington

S. Entrance Security Station

(Guard Shack)

1519 Alaskan Way S.

Seattle WA 98134

Landholding Agency: Coast Guard

Property Number: 88201620001

Status: Unutilized

Comments: public access denied and no alternative method to gain access without compromising national security.

Reasons: Secured Area

[FR Doc. 2016-12245 Filed 5-26-16; 8:45 am]

BILLING CODE 4210-67-P